DEPARTMENT OF HEALTH AND HUMAN SERVICES

National Institutes of Health

Office of the Director; Notice of Meeting

Pursuant to section 10(d) of the Federal Advisory Committee Act, as amended (5 U.S.C. App), notice is hereby given of the following meeting.

The meeting will be open to the public as indicated below, with attendance limited to space available. Individuals who plan to attend and need special assistance, such as sign language interpretation or other reasonable accommodations, should notify the Contact Person listed below in advance of the meeting.

The meeting will be closed to the public in accordance with the provisions set forth in section 552b(c)(10), Title 5 U.S.C., as amended. This portion of the meeting will be closed for discussions regarding pending civil legal proceedings.

Name of Committee: Advisory Committee to the Director, National Institutes of Health.

Date: December 9, 2010.

Open: 8 a.m. to 3 p.m.

Agenda: NIH Director's Report, Lasker Clinical Research Program; ACD TRND Working Group Report; Update on Enhancing Peer Review; Approaches to Implementing SMRB Recommendations; Review of Outside Awards for ACD Approval; Biomedical Workforce Issues; ACD Stem Cell Working Group Report.

Place: Building 31, C-Wing, 6th Floor, Conference Room 6, National Institutes of Health, Bethesda, MD 20892.

Closed: 3:15 p.m. to 4:15 p.m.

Agenda: Discussion of Pending Civil Litigation.

Place: Building 31, C-Wing, 6th Floor, Conference Room 6, National Institutes of Health, Bethesda, MD

Contact Person: Gretchen S. Wood, Immediate Office of the Director, National Institutes of Health, One Center Drive, Room 114. Bethesda, Maryland 20892-0147, e-mail: woodgs@od.nih.gov.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Advisory Committee to the Director, NIH home page: http://acd.od.nih.gov, where an agenda and any additional information for the meeting will be posted when available.

Dated: October 25, 2010.
Jennifer S. Spaeth,
Director, Office of Federal Advisory Committee Policy.

[FR Doc. 2010-27573 Filed 11-1-10; 8:45 am]

BILLING CODE 4140-01-P